DEPARTMENT OF AGRICULTURE

U.S. Codex Office

Codex Alimentarius Commission: Meeting of the Codex Committee on Codex Intergovernmental Task Force on Antimicrobial Resistance (TFAMR)

AGENCY: U.S. Codex Office, Department of Agriculture.

ACTION: Notice of public meeting and request for comments.

SUMMARY: The U.S Codex Office is sponsoring a public meeting on November 8, 2018. The objective of the public meeting is to provide information and receive public comments on agenda items and draft United States (U.S.) positions to be discussed at the 6th Session of the Codex Intergovernmental Task Force on Antimicrobial Resistance (TFAMR) of the Codex Alimentarius Commission (Codex), in Busan, Republic of Korea on December 10-14, 2018. The U.S. Manager for Codex Alimentarius and the Under Secretary, Office of Trade and Foreign Agricultural Affairs, recognize the importance of providing interested parties the opportunity to obtain background information on the 6th Session of the TFAMR and to address items on the agenda.

DATES: The public meeting is scheduled for Thursday, November 8, 2018 from 2:00 p.m. to 4:00 p.m.

ADDRESSES: The public meeting will take place at the United States Department of Agriculture (USDA), Jamie L. Whitten Building, 1400 Independence Avenue SW, Room 107-A, Washington, DC 20250. Documents related to the 6th Session of the TFAMR will be accessible via the internet at the following address: http://www.codexalimentarius.org/meetings-reports/en.

Donald A. Prater, U.S. Delegate to the 6th Session of the TFAMR, invites U.S. interested parties to submit their comments electronically to the following email address: Donald.prater@fda.hhs.gov.

Call-In-Number: If you wish to participate in the public meeting for the 6th Session of the TFAMR by conference call, please use the call-in-number: 1-888-844-9904. The participant code will be posted here: http://www.usda.gov/codex.

Registration: Attendees may register to attend the public meeting by emailing Ken.Lowery@osec.usda.gov by November 1, 2018. Early registration is encouraged because it will expedite entry into the building. The meeting will take place in a Federal building. Attendees should bring photo identification and plan for adequate time to pass through the security screening systems. Attendees who are not able to attend the meeting in person, but who wish to participate, may do so by phone, as discussed above.

For Further Information about the 6th Session of the TFAMR Contact: Donald A. Prater, DVM, Office of Foods and Veterinary Medicine, FDA, #10903, New Hampshire Avenue, Silver Spring, MD 20993. Phone: (301) 348-3007.

Email: Donald.prater@fda.hhs.gov.

For Further Information about the Public Meeting Contact: Kenneth Lowery, U.S. Codex Office, 1400 Independence Avenue SW, Room 4861, South Agriculture Building, Washington, DC 20250. Phone: (202) 690-4042, Fax: (202) 720-3157. Email: Ken.Lowery@osec.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The TFAMR is responsible for:

(1) Reviewing and revising, as appropriate, the Code of Practice to Minimize and Contain Antimicrobial Resistance (CAC/RCP 61-2005) to address the entire food chain, in line with the mandate of Codex; and

(2) considering the development of Guidance on Integrated Surveillance of Antimicrobial Resistance, taking into account the guidance developed by the WHO Advisory Group on Integrated Surveillance of Antimicrobial Resistance (AGISAR) and relevant World Organisation for Animal Health (OIE) documents.

The objective of the Task Force is to develop science-based guidance on the management of foodborne antimicrobial resistance, taking full account of the WHO Global Action Plan on Antimicrobial Resistance, in particular Objectives 3 and 4, the work and standards of relevant international organizations, such as FAO, WHO, and OIE, and the One-Health approach, to ensure members have the necessary guidance to enable coherent management of antimicrobial resistance along the food chain. The Task Force is expected to complete its work within three (or a maximum of four) sessions.

The TFAMR is hosted by Korea. The United States attends TFAMR as a member country of Codex.

Issues To Be Discussed at the Public Meeting

The following items on the Agenda for the 6th Session of the TFAMR will be discussed during the public meeting:

• Matters referred by the Codex Alimentarius Commission and its subsidiary bodies

• Matters arising from FAO and WHO including the report of the Joint FAO/WHO Expert Meeting in collaboration with OIE on Antimicrobial Resistance: Role of the Environment, Crops and Biocides

• Matters arising from OIE and other relevant international organizations

• Proposed draft revision of the Code of Practice to Minimize and Contain Antimicrobial Resistance (CXC 61-2005)

○ Comments in reply to CXC 61-2005

• Proposed draft Guidelines on Integrated Surveillance of Antimicrobial Resistance

○ Comments in reply to proposed draft Guidelines

• Other business

• Date and Place of next session.

Public Meeting

At the November 8, 2018, public meeting, draft U.S. positions on the agenda items will be described and discussed, and attendees will have the opportunity to pose questions and offer comments. Written comments may be offered at the meeting or sent to Donald A. Prater, U.S. Delegate for the 6th Session of the TFMAR (see ADDRESSES). Written comments should state that they relate to activities of the 6th Session of the TFAMR.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on September 27, 2018.
Mary Lowe,
U.S. Manager for Codex Alimentarius.

[FR Doc. 2018-21326 Filed 9-28-18; 8:45 am]

BILLING CODE P